DEPARTMENT OF COMMERCE

Performance Review Board Membership

AGENCY: Economics and Statistics Administration, Department of Commerce.

ACTION: Notice.

SUMMARY: Below is a listing of individuals who are eligible to serve on the Performance Review Board (PRB) in accordance with the Economics and Statistics Administration's Senior Executive Service and Senior Professional Performance Management Systems:

Kenneth A. Arnold

William G. Bostic, Jr.

Joanne Buenzli Crane

Justin R. Ehrenwerth

Ron S. Jarmin

Theodore A. Johnson

Steven J. Jost

Enrique Lamas

J. Steven Landefeld

Jennifer Madans

Brian E. McGrath

Thomas L. Mesenbourg, Jr.

Brian C. Moyer

Nancy A. Potok

Adam S. Wilczewski

Frank A. Vitrano

Katherine K. Wallman

FOR FURTHER INFORMATION CONTACT: Gail Smith, 301-763-3727.

Dated: September 19, 2012.
Kenneth A. Arnold,
Associate Under Secretary for Management Chair, Performance Review Board.

[FR Doc. 2012-24510 Filed 10-5-12; 8:45 am]

BILLING CODE 3510-BS-P